DEPARTMENT OF ENERGY

Federal Energy Regulatory Commission

Combined Notice of Filings

Any person desiring to protest in any the above proceedings must file in accordance with Rule 211 of the Commission's Regulations (18 CFR 385.211) on or before 5:00 p.m. Eastern time on the specified comment date.

Filings Instituting Proceedings

Docket Numbers: PR23-1-000.

Applicants: Acacia Natural Gas, L.L.C.

Description: § 284.123(g) Rate Filing: Amended Statement of Operating Conditions to be effective 10/1/2022.

Filed Date: 10/3/22.

Accession Number: 20221003-5277.

Comment Date: 5 p.m. ET 10/24/22.

284.123(g) Protest: 5 p.m. ET 12/2/22.

Docket Numbers: PR23-2-000.

Applicants: Moss Bluff Hub, LLC.

Description: § 284.123 Rate Filing: MBH TRRC Rule 7.455 Modifications to be effective 9/1/2022.

Filed Date: 10/3/22.

Accession Number: 20221003-5300.

Comment Date: 5 p.m. ET 10/24/22.

Docket Numbers: PR23-3-000.

Applicants: Valley Crossing Pipeline, LLC.

Description: § 284.123 Rate Filing: VCP—TRRC Rule 7.455 Modifications to be effective 9/1/2022.

Filed Date: 10/3/22.

Accession Number: 20221003-5327.

Comment Date: 5 p.m. ET 10/24/22.

Docket Numbers: RP22-1251-000.

Applicants: Mississippi Hub, LLC.

Description: Annual Informational Filing of Penalty Revenues of Mississippi Hub, LLC.

Filed Date: 9/27/22.

Accession Number: 20220927-5074.

Comment Date: 5 p.m. ET 10/11/22.

Docket Numbers: RP23-4-000.

Applicants: Equitrans, L.P.

Description: § 4(d) Rate Filing: Negotiated Rate Capacity Release Agreements—10/1/2022 to be effective 10/1/2022.

Filed Date: 10/3/22.

Accession Number: 20221003-5146.

Comment Date: 5 p.m. ET 10/17/22.

Docket Numbers: RP23-5-000.

Applicants: Texas Eastern Transmission, LP.

Description: § 4(d) Rate Filing: Negotiated Rates—Various Releases eff 10-1-22 to be effective 10/1/2022.

Filed Date: 10/3/22.

Accession Number: 20221003-5179.

Comment Date: 5 p.m. ET 10/17/22.

Docket Numbers: RP23-6-000.

Applicants: Algonquin Gas Transmission, LLC.

Description: § 4(d) Rate Filing: Negotiated Rates—CON ED to DIRECT EN MK 809433 to be effective 10/1/2022.

Filed Date: 10/3/22.

Accession Number: 20221003-5181.

Comment Date: 5 p.m. ET 10/17/22.

Docket Numbers: RP23-7-000.

Applicants: Algonquin Gas Transmission, LLC.

Description: § 4(d) Rate Filing: Negotiated Rates—Narra El Nat to Direct En Mk 809452 to be effective 10/1/2022.

Filed Date: 10/3/22.

Accession Number: 20221003-5182.

Comment Date: 5 p.m. ET 10/17/22.

Docket Numbers: RP23-8-000.

Applicants: Algonquin Gas Transmission, LLC.

Description: § 4(d) Rate Filing: Negotiated Rates—BOS GAS to SFE 809389 to be effective 10/1/2022.

Filed Date: 10/3/22.

Accession Number: 20221003-5183.

Comment Date: 5 p.m. ET 10/17/22.

Docket Numbers: RP23-9-000.

Applicants: Spire STL Pipeline LLC.

Description: § 4(d) Rate Filing: Spire STL Pipeline LAUF Filing to be effective 11/1/2022.

Filed Date: 10/3/22.

Accession Number: 20221003-5261.

Docket Numbers: RP23-10-000.

Applicants: El Paso Natural Gas Company, L.L.C.

Description: § 4(d) Rate Filing: Negotiated Rate Agreement Update (Pioneer Oct 2022) to be effective 10/4/2022.

Filed Date: 10/3/22.

Accession Number: 20221003-5271.

Comment Date: 5 p.m. ET 10/17/22.

Docket Numbers: RP23-11-000.

Applicants: El Paso Natural Gas Company, L.L.C.

Description: § 4(d) Rate Filing: Non-Conforming Agreement Filing (Sempra) to be effective 11/1/2022.

Filed Date: 10/3/22.

Accession Number: 20221003-5299.

Comment Date: 5 p.m. ET 10/17/22.

Docket Numbers: RP23-12-000.

Applicants: Texas Gas Transmission, LLC.

Description: § 4(d) Rate Filing: Cap Rel Neg Rate Agmt (Jay-Bee 34446 to MacQuarie 53888) to be effective 10/1/2022.

Filed Date: 10/3/22.

Accession Number: 20221003-5301.

Comment Date: 5 p.m. ET 10/17/22.

Take notice that the Commission has received the following Natural Gas Pipeline Rate and Refund Report filings:

Filings in Existing Proceedings

Docket Numbers: RP22-1222-001.

Applicants: Natural Gas Pipeline Company of America LLC.

Description: Compliance filing: Motion for Authorization to Implement Settlement Rates on an Interim Basis to be effective 11/1/2022.

Filed Date: 10/3/22.

Accession Number: 20221003-5180.

Comment Date: 5 p.m. ET 10/17/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2022.
Debbie-Anne A. Reese,
Deputy Secretary.

[FR Doc. 2022-22034 Filed 10-7-22; 8:45 am]

BILLING CODE 6717-01-P